DEPARTMENT OF THE INTERIOR

Bureau of Land Management

[LLOR936000.L14400000.ET0000.16XL1109AF; HAG 15-0118; WAOR-50699]

Public Land Order No. 7853; Extension of Public Land Order No. 7209, Cape Johnson; Washington

AGENCY: Bureau of Land Management, Interior.

ACTION: Public land order.

SUMMARY: This order extends the duration of the withdrawal created by Public Land Order No. 7209 for an additional 20-year period, which would otherwise expire on July 24, 2016. This extension is necessary to continue to protect the fragile, unique, and endangered natural and cultural resources at Cape Johnson, which is located adjacent to the Olympic National Park in Clallam County, Washington.

DATES: This Public Land Order is effective on July 25, 2016.

FOR FURTHER INFORMATION CONTACT: Jacob Childers, Land Law Examiner, at 503-808-6225, Bureau of Land Management, Oregon/Washington State Office, P.O. Box 2965, Portland, Oregon 97208-2965. Persons who use a telecommunications device for the deaf (TDD) may call the Federal Information Relay Service (FIRS) at 1-800-877-8339 to reach the above contact. The FIRS is available 24 hours a day, 7 days a week, to leave a message or question with the above individual. You will receive a reply during normal business hours.

SUPPLEMENTARY INFORMATION: The purpose for which the withdrawal was first made requires this extension to continue to protect the fragile, unique, and endangered natural and cultural resources located at Cape Johnson, Washington, at the request of the National Park Service.

Order

By virtue of the authority vested in the Secretary of the Interior by Section 204 of the Federal Land Policy and Management Act of 1976, 43 U.S.C. 1714, it is ordered as follows:

Public Land Order No. 7209 (61 FR 38783 (1996)), which withdrew 3.25 acres of public land at Cape Johnson, Washington, from settlement, sale, location, or entry under the general land laws, including the United States mining laws and leasing under the mineral leasing laws, is hereby extended for an additional 20-year period. The withdrawal extended by this order will expire on July 24, 2036, unless, as a result of a review conducted prior to the expiration date pursuant to Section 204(f) of the Federal Land Policy and Management Act of 1976 43 U.S.C. 1714, the Secretary determines that the withdrawal shall be further extended.

Dated: June 20, 2016.
Janice M. Schneider,
Assistant Secretary—Land and Minerals Management.

[FR Doc. 2016-15382 Filed 6-28-16; 8:45 am]

BILLING CODE 3410-15-P